FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before October 22, 2013. If you anticipate that you will be submitting PRA comments, but find it difficult to do so within the period of time allowed by this notice, you should advise the FCC contact listed below as soon as possible.

ADDRESSES: Submit your PRA questions to Judith B. Herman, Federal Communications Commission. To submit your PRA comments by email send them to: PRA@fcc.gov.

FOR FURTHER INFORMATION CONTACT: Judith B. Herman, Office of Managing Director, (202) 418-0214.

SUPPLEMENTARY INFORMATION: OMB Control Number: 3060-0819.

Title: Lifeline and Link Up Reform and Modernization, Advancing Broadband Availability Through Digital Literacy Training.

Form Numbers: FCC Forms 497, 481, 550, 555, 560

Type of Review: Revision of a currently approved collection.

Respondents: Individuals or households and business or other for-profit.

Number of Respondents and Responses: 41,806,827 respondents; 41,838,290 responses.

Estimated Time per Response: 0.25-250 hours.

Frequency of Response: On occasion, quarterly, biennially, on time, monthly and annual reporting requirements, third party disclosure requirements and recordkeeping requirements.

Obligation to Respond: Required to obtain or retain benefits. Statutory authority for this information collection is contained in 47 U.S.C. sections 1, 4(i), 201-205, 214, 254 and 403 of the Communications Act of 1934, as amended.

Total Annual Burden: 24,184,565 hours.

Total Annual Cost: No cost.

Privacy Act Impact Assessment: Yes.

Nature and Extent of Confidentiality: The changes proposed in the 2012 Lifeline Reform Order affects individuals or households, and thus, there are impacts under the Privacy Act. As required by the Privacy Act of 1974, as amended, 5 U.S.C. 552a, the Commission will create a system of records notice (SORN) to cover the collection, storage, maintenance, and disposal (when appropriate) of any personally identifiable information that the Commission may collect as part of the information collection. We note that USAC must preserve the confidentiality of all data obtained from respondents and contributors to the universal service support program mechanism, must not use the data except for purposes of administering the universal service support program, and must not disclose data in company-specific form unless directed to do so by the Commission. If the Commission requests information that the respondents believe is confidential, respondents may request confidential treatment of such information under section 0.459 of the Commission's rules.

Needs and Uses: This collection is being submitted as a revision to a currently approved collection.

In January 2012, the Commission adopted an order reforming and modernizing its Lifeline universal service program. Lifeline and Link-Up Reform and Modernization; Lifeline and Link-Up; Federal-State Joint Board on Universal Service; Advancing Broadband Availability Through Digital Literacy Training, WC Docket Nos. 11-42, 03-109, 12-23; CC Docket No. 96-45, Report and Order and Further Notice of Proposed Rulemaking, 27 FCC Rcd 6656 (2012) (“Lifeline Order”). In the Lifeline Order, the Commission made several modifications to the existing rules regarding designation of Lifeline-only Eligible Telecommunications Carriers (ETCs) to eliminate waste and inefficiency, and to increase accountability in the program.

Specifically, the Lifeline Order amended Section 54.416 of the Commission's rules to require ETCs make certain certifications annually, including but not limited to, certifications that the ETC has policies and procedures in place to ensure that its Lifeline subscribers are eligible to receive Lifeline services and that the ETC is in compliance with all federal Lifeline certification procedures. See 47 CFR 54.416(a)(1)-(2) (2013). ETCs are required to annually provide the results of their re-certification efforts performed pursuant to Section 54.410 to the Commission and the Administrator as well as the number of subscribers de-enrolled for non-usage. See 47 CFR 54.405, 54.410, 54.416(b) (2013). These rules help protect the Universal Service Fund from waste, fraud, and abuse by ensuring that ETCs are accountable for their compliance with program rules. ETCs provide these certifications and results on the FCC Form 555, the Annual Lifeline Eligible Telecommunications Carrier Certification Form.

In this submission, the Commission proposes to make administrative revisions to the FCC Form 555 to improve the clarity of the form and instructions. The Commission also proposes to revise FCC Form 555 Section 2 to require ETCs to report the number of subscribers claimed on their February FCC Form 497 for the current FCC Form 555 calendar year that were initially enrolled during that calendar year. Further, we propose to revise Section 3 to require the ETCs to report the percentage of de-enrolled subscribers. Finally, we propose to revise Section 4 to require the ETCs to identify whether they are a “Pre-Paid ETC” that is in compliance with Section 54.407. See 47 CFR 54.407.

The Commission also proposes revisions to the Broadband Pilot Program. The broadband pilot program is aimed at generating statistically significant data that will allow the Commission, ETCs, and the public to analyze the effectiveness of different approaches to using Lifeline funds to making broadband more affordable for low-income Americans while providing support that is sufficient but not excessive. By Order, on December 19, 2012, the Commission selected 14 projects to participate in the broadband pilot program. Therefore, there is no further need to solicit proposals from respondents for the Broadband Pilot Program. In this submission, the Commission proposes to eliminate the call for Broadband Pilot Program proposals, which was included in the previous revision. The Commission also proposes revisions to FCC Form 550—Low Income Broadband Reimbursement Form and FCC Form 560—Low Income Broadband Pilot Program Reporting Form). In the previous revision, the Commission estimated the number of respondents for the FCC Forms 550 and 560 because the pilot program participants had not been selected at that time. The Commission proposes revised calculations for the burden hours associated with the FCC Forms 550 and 560 based on the actual number of pilot program participants.

Federal Communications Commission.
Gloria J. Miles,
Federal Register Liaison, Office of the Secretary, Office of Managing Director.

[FR Doc. 2013-20565 Filed 8-22-13; 8:45 am]

BILLING CODE 6712-01-P